DEPARTMENT OF DEFENSE

Department of the Army; Corps of Engineers

Notice of Intent To Prepare Draft Environmental Impact Statements/Environmental Impact Reports for the Sutter Basin Feasibility Study and the Section 408 Permission for the Feather River West Levee Project, Sutter and Butte Counties, CA

AGENCY: Department of the Army, U.S. Army Corps of Engineers; DoD.

ACTION: Notice of intent.

SUMMARY: Pursuant to the National Environmental Policy Act of 1969, as amended, and the California Environmental Quality Act (CEQA), the U.S. Army Corps of Engineers (USACE) intends to prepare a separate Environmental Impact Statement/Environmental Impact Report (EIS/EIR) for each of the following related flood risk management study efforts in north-central California: a Feasibility Study of flood risk management and related water resources problems in the Sutter Basin conducted by USACE under the authority of the Flood Control Act of 1962 (Pub. L. 87-874); and under Section 14 of the Rivers and Harbors Act of 1899 (as amended) (33 U.S.C. 408), and Section 404 of the Clean Water Act (33 U.S.C. 1344), the proposed Feather River West Levee Project (FRWLP), sponsored by the Sutter Butte Flood Control Agency (SBFCA) as a locally driven flood management improvement project. The two projects are being studied in close coordination because they partially overlap in their study areas, purpose, potential improvements, potential effects, and involved parties. Therefore, a joint scoping process is being conducted for the two projects to explain the relationship between the two efforts and obtain public input in a manner that is convenient, efficient, and integrated. Figures of the two project areas can be viewed at the SBFCA Web site at: http://www.sutterbutteflood.org/index.php/notices_documents.

Sutter Basin Feasibility Study. On March 20, 2000, the State of California entered into a feasibility cost-sharing agreement (FCSA) with USACE to initiate a feasibility study. An amendment to the FCSA was signed in 2010, which included SBFCA as a non-Federal sponsor. The purpose of the study is to address flood risk, ecosystem restoration and recreation-related issues in the study area. If a Federal interest is determined, the study would result in a decision document, a General Investigation Feasibility Study report and EIS/EIR, which would be the basis for a recommendation to Congress for authorization. The Central Valley Flood Protection Board (CVFPB) and SBFCA are coordinating with USACE on the feasibility study. USACE, as the Federal lead agency under NEPA, and SBFCA, as the state lead agency under CEQA in coordination with CVFPB, have determined that an EIS/EIR will be prepared to describe alternatives, potential environmental effects, and mitigation measures.

FRWLP. SBFCA is planning the FRWLP to construct improvements to the west levee of the Feather River from Thermalito Afterbay to the Sutter Bypass confluence to meet Federal, state, and local flood protection criteria and goals. In 2010, an assessment district was enacted to provide local funding toward flood management improvements. These funds may be matched with those from the Early Implementation Program (funded through previous state bonds) administered by the California Department of Water Resources (DWR). In order to implement the project, the sponsor must acquire permission from USACE to alter the Federal project under Section 14 of the Rivers and Harbors Act of 1899 (as amended) (33 U.S.C. 408 or, Section 408). USACE also has authority under Section 404 of the Clean Water Act (33 U.S.C. 1344) over activities involving the discharge of dredged or fill material to waters of the United States, which are known to be in the project area. The purpose of the FRWLP would be to construct improvements as quickly as possible in advance of and compatible with the Sutter Basin Project. USACE, acting as the Federal lead agency under NEPA, and SBFCA, acting as the state lead agency under the CEQA in coordination with CVFPB, have determined that an EIS/EIR will be prepared to describe alternatives, potential environmental effects, and mitigation measures.

DATES: Public scoping meetings will be held on Monday, June 27 at 3:30 p.m. and 6:30 p.m. at the Veterans Memorial Community Building, 1425 Veterans Memorial Circle, Yuba City, CA and on Tuesday, June 28 at 3:30 p.m. and 6:30 p.m. at the Veterans Memorial Hall, 245 Sycamore Street, Gridley, CA. Send written comments by July 8, 2011 (see ADDRESSES).

ADDRESSES: Written comments and suggestions concerning the scope and content of the environmental information may be submitted to Mr. Matt Davis, U.S. Army Corps of Engineers, Sacramento District, Attn: Planning Division (CESPK-PD-R), 1325 J Street, Sacramento, CA 95814. Requests to be placed on the mailing list also should be sent to this address.

FOR FURTHER INFORMATION CONTACT: Questions about the proposed actions and environmental review process should be addressed to Matt Davis at (916) 557-6708, e-mail: Matthew.G.Davis@usace.army.mil (see ADDRESSES).

SUPPLEMENTARY INFORMATION: 1. Proposed Action. Sutter Basin Feasibility Study. USACE is conducting a feasibility study to evaluate structural and non-structural flood-risk-management measures, including re-operation of existing reservoirs; improvements to existing levees; construction of new levees; and other storage, conveyance, and non-structural options. The Sutter Basin study area covers approximately 285 square miles and is roughly bounded by the Feather River, Sutter Bypass, Wadsworth Canal, Sutter Buttes, and Cherokee Canal. Flood waters potentially threatening the study area originate from the Feather River watershed and/or the upper Sacramento River watershed, above Colusa Weir. The study area is essentially encircled by project levees and the high ground of Sutter Buttes. Geotechnical analysis and historical performance during past floods indicates the project levees are at risk of failure due to underseepage. The risk of levee failure coupled with the consequence of deep flooding presents a threat to public safety and property. Considering the collective changes to riparian and aquatic ecosystems brought about by agriculture, urbanization, mining, and flood risk management and water supply infrastructure, and the national concern for environmental quality and protection, every opportunity to restore and protect natural resources should be taken whenever changes in the water management system are being contemplated. Ecosystem restoration measures likely would include restoration of floodplain function and habitat. Recreation measures include those outdoor recreation opportunities associated with sustainable water resource development. The feasibility phase of this project is cost-shared 50% Federal, 50% non-Federal with the project sponsors, the State of California CVFPB and the SBFCA. The study will focus on alternatives in the study area that comprise flood risk management, ecosystem restoration, and recreation management measures. As part of the study, an EIS/EIR will be prepared with USACE as the lead agency under NEPA and SBFCA in cooperation with CVFPB as the lead agency under CEQA.

FRWLP. SBFCA is proposing a levee improvement project along the Feather River west levee under the California DWR's Early Implementation Program to expeditiously complete flood-risk reduction measures in advance of the Sutter Basin Feasibility Study. Known as the FRWLP, the project proposes to construct levee improvements between the Thermalito Afterbay and the Feather River/Sutter Bypass confluence. Primary deficiencies of the levee include through-seepage, under-seepage, and embankment instability (e.g., overly steepened slopes). Alternatives considered may include measures such as slurry cutoff walls, seepage berms, stability berms, internal drains, relief wells, sheet-pile walls, slope flattening, and potential new levee alignments. As part of the project, an EIS/EIR is being prepared. USACE has authority under Section 14 of the Rivers and Harbors Act of 1899 (as amended) (33 U.S.C. 408), over alterations to Federal flood control project levees and any such alterations as proposed by SBFCA are subject to approval by USACE. USACE also has authority under Section 404 of the Clean Water Act (33 U.S.C. 1344) over activities involving the discharge of dredged or fill material to waters of the United States, which are known to be in the project area. Due to these authorities, USACE is acting as the lead agency for the EIS pursuant to NEPA. SBFCA will be acting as the lead agency for the EIR according to CEQA as an agency of the State of California with delegated authority to approve the project.

2. Alternatives. The EIS/EIRs will consider several alternatives for reducing flood damage. Alternatives analyzed during the investigation will consist of a combination of one or more measures to reduce the risk of flooding. These measures include installing cutoff walls, and constructing seepage berms.

3. Scoping Process.

a. A series of public scoping meetings will be held on June 27 and 28, 2011, to present information to the public and to receive comments from the public on both the feasibility study and the FRWLP. These meetings are intended to initiate the process to involve concerned individuals, and local, state, and Federal agencies.

b. Significant issues to be analyzed in depth in the environmental documents include effects on hydraulics, wetlands and other waters of the U.S., vegetation and wildlife resources, special-status species, aesthetics, cultural resources, recreation, land use, fisheries, water quality, air quality, transportation, and socioeconomics; and cumulative effects of related projects in the study area.

c. USACE is consulting with the State Historic Preservation Officer to comply with the National Historic Preservation Act and with the U.S. Fish and Wildlife Service and National Marine Fisheries Service to comply with the Endangered Species Act. USACE also is coordinating with the U.S. Fish and Wildlife Service to comply with the Fish and Wildlife Coordination Act.

d. A 45-day public review period will be provided for individuals and agencies to review and comment on the draft environmental documents. All interested parties are encouraged to respond to this notice and provide a current address if they wish to be notified of the draft EIS/EIR circulation.

4. Availability. The draft EIS/EIR for the FRWLP is scheduled to be available for public review and comment in late 2011. The draft EIS/EIR for the Sutter Basin Feasibility Study is scheduled to be available for public review and comment in mid 2012.

Dated: May 12, 2011.
Andrew B. Kiger,
LTC, EN, Commanding.

[FR Doc. 2011-12510 Filed 5-19-11; 8:45 am]

BILLING CODE 3720-58-P